DEPARTMENT OF ENERGY

Federal Energy Regulatory Commission

Combined Notice of Filings

Take notice that the Commission has received the following Natural Gas Pipeline Rate and Refund Report filings:

Filings Instituting Proceedings

Docket Numbers: RP17-49-000.

Applicants: Destin Pipeline Company, L.L.C.

Description: § 4(d) Rate Filing: Tariff Changes in Response to Audit Order FA15-001-000 to be effective 12/1/2016.

Filed Date: 10/24/16.

Accession Number: 20161024-5024.

Comments Due: 5 p.m. ET 11/7/16.

Docket Numbers: RP17-50-000.

Applicants: Columbia Gulf Transmission, LLC.

Description: Compliance filing Columbia Gulf Section 5 Settlement Implementation to be effective 7/1/2016.

Filed Date: 10/24/16.

Accession Number: 20161024-5025.

Comments Due: 5 p.m. ET 11/7/16.

Docket Numbers: RP17-51-000.

Applicants: Freeport-McMoRan Exploration & Productio,Anadarko US Offshore LLC.

Description: Joint Petition for Temporary Waivers of Commission Policies, et. al. of Freeport-McMoRan Exploration & Production LLC, et. al. under RP17-51.

Filed Date: 10/24/16.

Accession Number: 20161024-5148.

Comments Due: 5 p.m. ET 11/1/16.

Docket Numbers: RP17-52-000.

Applicants: Breitburn Operating LP v. Florida Gas Tr.

Description: Formal Complaint of Breitburn Operating LP under RP17-52.

Filed Date: 10/24/16.

Accession Number: 20161024-5178.

Comments Due: 5 p.m. ET 11/7/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2016.
Nathaniel J. Davis, Sr.,
Deputy Secretary.

[FR Doc. 2016-26231 Filed 10-28-16; 8:45 am]

BILLING CODE 6717-01-P